DEPARTMENT OF EDUCATION

Office of Postsecondary Education; Overview Information; Child Care Access Means Parents in School (CCAMPIS) Program Notice Inviting Applications for New Awards for Fiscal Year (FY) 2005

Catalog of Federal Domestic Assistance (CFDA) Number: 84.335.

Dates: Applications Available: June 10, 2005.

Deadline for Transmittal of Applications: July 22, 2005.

Deadline for Intergovernmental Review: September 20, 2005.

Eligible Applicants: Any institution of higher education that during FY 2004 awarded a total of $350,000 or more of Federal Pell Grant funds to students enrolled at the institution. Institutions that currently have a CCAMPIS Program grant with a project period ending in 2006 are eligible to apply in accordance with section III.3 of this notice.

Estimated Available Funds: $10,353,010.

Estimated Range of Awards: $10,000-$300,000.

Estimated Average Size of Awards: $47,491.

Maximum Award: In accordance with section 419N(b)(2) of the Higher Education Act of 1965, as amended (HEA), the maximum amount an applicant may receive under this program is one percent of the total amount of all Federal Pell Grant funds awarded to students enrolled at the institution for FY 2004. A grant shall not be less than $10,000, for a single budget period of 12 months.

Estimated Number of Awards: 218.

Note: The Department is not bound by any estimates in this notice.

Project Period: 48 months.

Full Text of Announcement

I. Funding Opportunity Description

Purpose of Program: The CCAMPIS Program supports the participation of low-income parents in postsecondary education through the provision of campus-based child care services.

Priority: In accordance with 34 CFR 75.105 (b)(2)(iv), this priority is from section 419N(d) of the HEA.

Competitive Preference Priority: For FY 2005 this priority is a competitive preference priority. Under 34 CFR 75.105(c)(2)(i) we award up to an additional 10 points to an application, depending on the extent to which the application meets this priority.

This priority is: Priority is given to institutions of higher education that submit applications describing child care programs that: (1) Leverage significant local or institutional resources, including in-kind contributions, to support the activities assisted under this program; and (2) utilize a sliding fee scale for child care services provided under this program to support a high number of low-income parents pursuing postsecondary education at the institution.

Program Authority: 20 U.S.C. 1070e.

Applicable Regulations: The Education Department General Administrative Regulations (EDGAR) in 34 CFR parts 74, 75, 77, 79, 80, 81, 82, 84, 85, 86, 97, 98, and 99.

Because there are no program-specific regulations for the CCAMPIS Program, applicants are encouraged to carefully read the authorizing statute, section 419N of the HEA.

Note: The regulations in 34 CFR part 79 apply to all applicants except federally recognized Indian Tribes.

Note: The regulations in 34 CFR part 86 apply to institutions of higher education only.

II. Award Information

Type of Award: Discretionary grants.

Estimated Available Funds: $10,353,010.

Estimated Range of Awards: $10,000-$300,000.

Estimated Average Size of Awards: $47,491.

Maximum Award: In accordance with section 419N(b)(2) of the HEA, the maximum amount an applicant may receive under this program is one percent of the total amount of all Federal Pell Grant funds awarded to students enrolled at the institution for FY 2004. A grant shall not be less than $10,000, for a single budget period of 12 months.

Estimated Number of Awards: 218.

Note: The Department is not bound by any estimates in this notice.

Project Period: 48 months.

III. Eligibility Information

1. Eligible Applicants: Any institution of higher education that during FY 2004 awarded a total of $350,000 or more of Federal Pell Grant funds to students enrolled at the institution. Institutions that currently have a CCAMPIS Program grant with a project period ending in 2006 are eligible to apply in accordance with section III.3 of this notice.

2. Cost Sharing or Matching: This competition does not involve cost sharing or matching.

3. Other: At this time, we do not anticipate conducting a competition for new awards in FY 2006. Institutions that currently have a CCAMPIS Program grant with a project period ending in 2006 should apply for a new grant during this FY 2005 competition. Subject to the availability of funds, we plan to make new awards in FY 2006 by funding in rank order those applicants with project periods ending in 2006 who scored within the funding range under the FY 2005 competition; and by funding in rank order any other high-quality applications that remain on the slate, including applicants with project periods ending in 2006. Those applicants with project periods ending in 2006 may be awarded a new grant to begin in FY 2006 if: (1) The FY 2005 application scores in the funding range for new awards, and (2) the applicant met all the terms and conditions of the previous grant, including the submission of all required reports.

However, the HEA, the statute authorizing the CCAMPIS Program currently expires at the end of FY 2005. If the statute is not extended or the statute is extended and the terms of the program are substantially changed, the applications from applicants with project periods ending in 2006 that applied in FY 2005 and scored within the funding range will not be funded. If Congress substantially changes the terms of the CCAMPIS Program, the Department may conduct a new competition in FY 2006. If that is the case, we will require all institutions requesting new FY 2006 funding to submit applications in the FY 2006 competition.

IV. Application and Submission Information

1. Address to Request Application Package: Dorothy S. Marshall or Antoinette Clark-Ross, U.S. Department of Education, 1990 K Street, NW., suite 7000, Washington, DC 20006-8510. Telephone (202) 502-7600 or by email: TRIO@ed.gov.

If you use a telecommunications device for the deaf (TDD), you may call the Federal Relay Services (FRS) at 1-800-877-8339.

Individuals with disabilities may obtain a copy of the application package in an alternative format (e.g., Braille, large print, audiotape, or computer diskette) by contacting the program contact persons listed in this section.

2. Content and Form of Application Submission: Requirements concerning the content of an application, together with the forms you must submit, are in the application package for this competition.

Page Limit: You must limit the narrative part of your application—Part II—First Year Budget Narrative and Part III—Program Narrative—to the equivalent of no more than 45 pages using the following standards:

• A “page” is 8.5″ x 11″, on one side only, with 1″ margins at the top, bottom, and both sides.

• Double space (no more than three lines per vertical inch) all text in the application, including titles, headings, footnotes, quotations, references, and captions, as well as all text in charts, tables, figures, and graphs.

• Use a font that is either 12 point or larger or no smaller than 10 pitch (characters per inch).

The page limit does not apply to the application face sheet (ED 424); Part I-A one-page abstract; Part I-B profile; the budget summary form (ED 524), Part IV CCAMPIS Program Assurances, and Part V Department of Education Certifications and Assurances. The page limit also does not apply to a table of contents, should the applicant wish to include one in its application.

No appendices or attachments should be included with the application. If you include any attachments or appendices, these items will be counted as part of the Program Narrative for purposes of the page limit requirement.

We will reject your application if—

• You apply these standards and exceed the page limit; or

• You apply other standards and exceed the equivalent of the page limit.

3. Submission Dates and Times:

Applications Available: June 10, 2005.

Deadline for Transmittal of Applications: July 22, 2005.

Applications for grants under this competition must be submitted electronically using the Electronic Grant Application System (e-Application) available through the Department's e-Grants system. For information (including dates and times) about how to submit your application electronically or by mail or hand delivery if you qualify for an exception to the electronic submission requirement, please refer to section IV.6. Other Submission Requirements in this notice.

The dates and times for the transmittal of applications by mail or by hand (including a courier service or commercial carrier) are in the application package for this competition. The application package also specifies the hours of operation of the e-Application Web site.

We do not consider an application that does not comply with the deadline requirements.

Deadline for Intergovernmental Review: September 20, 2005.

4. Intergovernmental Review: This program competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications.

Applications for grants under the CCAMPIS Program—CFDA Number 84.335 must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program [competition] after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application must be attached as files in a .DOC (document), .RTF (rich text), or .PDF (Portable Document) format.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Linda Byrd-Johnson, Ph.D., U.S. Department of Education, 1990 K Street, NW., Room 7085, Washington, DC 20006. FAX: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.335), 400 Maryland Avenue, SW., Washington, DC 20202-4260; or

By mail through a commercial carrier: U.S. Department of Education, Application Control Center—Stop 4260, Attention: (CFDA Number 84.335), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.335), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from the statute authorizing the CCAMPIS Program, Section 491N(c) of the HEA, and are as follows:

The maximum score for the total of these criteria (A-E) is 100 points. The maximum score for each criterion is indicated in parentheses, and the maximum score for each subcriterion is in the application package for this competition.

A. Need for the Project. (Maximum 35 Points)

The applicant must demonstrate the need for campus-based child services for low-income students at the institution by including the following:

1. Information regarding student demographics;

2. An assessment of child care capacity on or near campus;

3. Information regarding the existence of waiting lists for existing child care;

4. Information regarding additional needs created by concentrations of poverty or by geographic isolation; and

5. Other relevant data.

B. Plan of Operation. (Maximum 25 Points)

The applicant must describe the activities to be assisted, and must specify whether the grant funds will support an existing child care program or a new child care program.

1. All applicants must address the following:

(a) The plan to identify and select students with the greatest need of child care services;

(b) The type of child care services to be provided and the likely impact of the services on the intended recipients of those services;

(c) 1. If the institution has an early childhood education curriculum, the extent to which the child care program will coordinate with that curriculum to meet the needs of the students in the early childhood education program at the institution, and the needs of the parents and children participating in the child care program; or

2. If the institution does not have an early childhood education curriculum, the extent to which the project will coordinate with the institution's other programs for economically disadvantaged students to meet the needs of the parents and children participating in the child care program; and

(d) The plan to encourage parental involvement.

2. Only applicants requesting grant assistance for new child care programs must:

(a) Provide a timeline, covering the period from receipt of the grant through the provision of the child care services, delineating the specific steps the institution will take to achieve the goal of providing low-income students with child care services;

(b) Specify any measures the institution will take to assist low-income students with child care during the period before the institution provides child care services; and

(c) Include a plan for identifying resources needed for the child care services, including space in which to provide childcare services and technical assistance if necessary.

C. Management of Project. (Maximum 20 Points)

All applicants must describe the management plan for the proposed project, and include the following:

1. The resources, including technical expertise and financial support, the institution will draw upon to support the child care program and the participation of low-income students in the program, such as accessing social services funding, using student activity fees to help pay the costs of child care, using resources obtained by meeting the needs of parents who are not low-income students, and accessing foundation, corporate or other institutional support, and demonstrate that the use of the resources will not result in increases in student tuition;

2. The qualifications, including relevant training, experience, and time commitment of key project personnel;

3. The organizational placement of the project; and

4. Specific plans for financial management, student records management, and personnel management.

D. Evaluation. (Maximum 15 Points)

All applicants must describe the evaluation plan for the project and must:

1. Demonstrate that the evaluation plan is:

(a) appropriate to the project; and

(b) includes both quantitative and qualitative evaluation measures; and

2. Describe the specific and measurable ways by which the plan will evaluate the success of the project on the retention and graduation of students whose children are served by the project.

E. Budget. (Maximum 5 points)

The extent to which the budget is adequate to support the proposed project (costs are reasonable in relation to the number of persons to be served and to the anticipated results and benefits).

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. In addition, pursuant to Section 419N(e) of the HEA, you must submit reports 18 months and 36 months after receiving the first grant payment, as directed by the Secretary.

4. Performance Measures: The success of the CCAMPIS Program will be measured by the persistence and completion rates of students whose children are served by the program.

VII. Agency Contacts

FOR FURTHER INFORMATION CONTACT: Dorothy S. Marshall or Antoinette Clark-Ross, U.S. Department of Education, 1990 K Street, NW., Suite 7000, Washington, DC 20006-8510. Telephone: 202-502-7600 or by e-mail: TRIO@ed.gov.

If you use a telecommunication device for the deaf (TDD), you may call the Federal Relay Services (FRS) at 1-800-877-8339.

Individuals with disabilities may obtain this document in an alternative format (e.g., Braille, large print, audiotape, or computer diskette) on request to the program contact persons listed in this section.

VIII. Other Information

Electronic Access to This Document: You may view this document, as well as other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at 202-512-1530.

Note: The official version of this document is the document published in the Federal Register. Free Internet access to the official edition of the Federal Register and the Code of Federal Regulations is available on GPO Access at: http://www.gpoaccess.gov/nara/index.html.

Dated: June 3, 2005.
Sally L. Stroup,
Assistant Secretary for Postsecondary Education.

[FR Doc. 05-11390 Filed 6-7-05; 8:45 am]

BILLING CODE 4000-01-P